DEPARTMENT OF JUSTICE

Notice of Lodging of Consent Decree Pursuant to the Comprehensive Environmental Response, Compensation and Liability Act

In accordance with Departmental policy, 28 CFR 50.7, notice is hereby given that a proposed consent decree in United States v. Rentokil Initial Environmental Services, et al., No. 00-0395-BH-S (S.D. Ala.) was lodged on December 21, 2001, with the United States District Court for the Southern District of Alabama. The consent decree settles claims against Rentokil Initial Environmental Services, Inc. (“Rentokil”), Saraland Apartments, Ltd., The Roar Company, The Estate of Robert S. Coit (deceased) and Meador Contracting Company under section 107 of the Comprehensive Environmental Response, Compensation, and Liability Act (“CERCLA”), 42 U.S.C. 9607, in connection with the Redwing Carriers, Inc., (Saraland) Superfund Site located Saraland, Alabama (the “Site”). The consent decree requires Rentokil to perform the remedial action at the Site and the settling defendants will contribute, in cash or through the performance of the remedy, at least $9.26 million of $10.9 in total Site costs. The consent decree also resolves the United States' claims for treble punitive damages and fines against Rentokil and Saraland Apartments, Ltd. pursuant to section 107(c)(3), 42 U.S.C. 9607(c)(3) and section 106(b), 42 U.S.C. 9606(b). Finally, the consent decree provides for full payment of Saraland's debt, secured by the Site, to the United States Department of Housing and Urban Development (HUD); provided the payment does not exceed $500,000. The settling defendants are also settling claims among themselves through the consent decree.

The Department of Justice will receive, for a period of thirty (30) days from the date of this publication, comments relating to the proposed consent decree. Comments should be addressed to the Assistant Attorney General for the Environment and Natural Resources Division, Department of Justice, Washington, DC 20530, and should refer to United States v. Rentokil Initial Environmental Services, et al., No. 00-0395-BH-S (S.D. Ala.) and DOJ# 90-11-2-635/1.

The proposed consent decree may be examined at the office of the United States Attorney, Southern District of Alabama 63 Royal Street, Suite 600, Mobile, Alabama 36602 and the Region 4 Office of the Environmental Protection Agency, 61 Forsyth Street, SW., Atlanta, GA 30303. A copy of the proposed consent decree may also be obtained by mail from the Consent Decree Library, PO Box 7611, Washington, DC 20044-7611. In requesting a copy please refer to the referenced case and enclose a check in the amount of $45.25 (25 cents per page reproduction costs), payable to the Consent Decree Library.

Ellen M. Mahan,
Assistant Section Chief, Environmental Enforcement Section, Environment and Natural Resources Division.

[FR Doc. 02-361 Filed 1-7-02; 8:45 am]

BILLING CODE 4410-15-M